DEPARTMENT OF ENERGY

Federal Energy Regulatory Commission

Combined Notice of Filings #1

Take notice that the Commission received the following exempt wholesale generator filings:

Docket Numbers: EG21-199-000.

Applicants: Kahana Solar, LLC.

Description: Notice of Self-Certification of Exempt Wholesale Generator Status of Kahana Solar, LLC.

Filed Date: 7/23/21.

Accession Number: 20210723-5070.

Comments Due: 5 p.m. ET 8/13/21.

Docket Numbers: EG21-200-000.

Applicants: Arlington Energy Center II, LLC.

Description: Notice of Self-Certification of Exempt Wholesale Generator Status of Arlington Energy Center II, LLC.

Filed Date: 7/23/21.

Accession Number: 20210723-5119.

Comments Due: 5 p.m. ET 8/13/21.

Docket Numbers: EG21-201-000.

Applicants: Barbers Point Solar, LLC.

Description: Self-Certification of Exempt Wholesale Generator status of Barbers Point Solar, LLC.

Filed Date: 7/23/21.

Accession Number: 20210723-5121.

Comments Due: 5 p.m. ET 8/13/21.

Docket Numbers: EG21-202-000.

Applicants: Paeahu Solar LLC.

Description: Self-Certification of Exempt Wholesate Generator status of Paeahu Solar LLC.

Filed Date: 7/23/21.

Accession Number: 20210723-5122.

Comments Due: 5 p.m. ET 8/13/21.

Docket Numbers: EG21-203-000.

Applicants: Hale Kuawehi Solar LLC.

Description: Self-Certification of Exempt Wholesale Generator status of Hale Kuawehi Solar LLC.

Filed Date: 7/23/21.

Accession Number: 20210723-5125.

Comments Due: 5 p.m. ET 8/13/21.

Take notice that the Commission received the following electric rate filings:

Docket Numbers: ER11-3377-006; ER11-3376-006; ER11-3378-006.

Applicants: Horseshoe Bend Wind, LLC, North Hurlburt Wind, LLC, South Hurlburt Wind, LLC.

Description: Notice of Non-Material Change in Status of Horseshoe Bend Wind, LLC, et al.

Filed Date: 7/22/21.

Accession Number: 20210722-5239.

Comments Due: 5 p.m. ET 8/12/21.

Docket Numbers: ER21-330-000.

Applicants: Specialty Products US, LLC.

Description: Refund Report of Specialty Products US, LLC, et al.

Filed Date: 7/22/21.

Accession Number: 20210722-5217.

Comments Due: 5 p.m. ET 8/12/21.

Docket Numbers: ER21-486-001.

Applicants: New York Independent System Operator, Inc.

Description: Compliance filing: Effective date notice re: enhancements to TCC credit requirements to be effective 8/6/2021.

Filed Date: 7/23/21.

Accession Number: 20210723-5054.

Comments Due: 5 p.m. ET 8/13/21.

Docket Numbers: ER21-2488-000.

Applicants: NextEra Blythe Solar Energy Center, LLC.

Description: § 205(d) Rate Filing: NextEra Blythe Solar Energy Center, LLC Filing of Amended and Restated SFA to be effective 7/23/2021.

Filed Date: 7/22/21.

Accession Number: 20210722-5208.

Comments Due: 5 p.m. ET 8/12/21.

Docket Numbers: ER21-2489-000.

Applicants: Southern California Edison Company.

Description: § 205(d) Rate Filing: Amended IFA FPLE Green Power SA No. 109 to be effective 9/22/2021.

Filed Date: 7/23/21.

Accession Number: 20210723-5067.

Comments Due: 5 p.m. ET 8/13/21.

Docket Numbers: ER21-2490-000.

Applicants: PJM Interconnection, L.L.C.

Description: § 205(d) Rate Filing: Amendment to ISA, Service Agreement No.2967; Queue No. V4-054 (amend) to be effective 6/17/2011.

Filed Date: 7/23/21.

Accession Number: 20210723-5076.

Comments Due: 5 p.m. ET 8/13/21.

Docket Numbers: ER21-2491-000.

Applicants: Tri-State Generation and Transmission Association, Inc.

Description: § 205(d) Rate Filing: Amendment to Rate Schedule No. 222 to be effective 9/21/2021.

Filed Date: 7/23/21.

Accession Number: 20210723-5082.

Comments Due: 5 p.m. ET 8/13/21.

Docket Numbers: ER21-2492-000.

Applicants: Tri-State Generation and Transmission Association, Inc.

Description: § 205(d) Rate Filing: Amendment to Rate Schedule No. 214 to be effective 9/21/2021.

Filed Date: 7/23/21.

Accession Number: 20210723-5090.

Comments Due: 5 p.m. ET 8/13/21.

Docket Numbers: ER21-2493-000.

Applicants: Southern California Edison Company.

Description: Tariff Cancellation: Amended LGIA BigBeau Solar, LLC SA No. 212 & Terminate eTariff record of LGIA to be effective 7/24/2021.

Filed Date: 7/23/21.

Accession Number: 20210723-5091.

Comments Due: 5 p.m. ET 8/13/21.

Docket Numbers: ER21-2494-000.

Applicants: Meyersdale Windpower LLC.

Description: § 205(d) Rate Filing: Second and Restated Common Facilities Agreement to be effective 7/26/2021.

Filed Date: 7/23/21.

Accession Number: 20210723-5099.

Comments Due: 5 p.m. ET 8/13/21.

Docket Numbers: ER21-2495-000.

Applicants: California Independent System Operator Corporation.

Description: Compliance filing: 2021-07-23 NAESB Waiver Filing to be effective N/A.

Filed Date: 7/23/21.

Accession Number: 20210723-5142.

Comments Due: 5 p.m. ET 8/13/21.

Docket Numbers: ER21-2496-000.

Applicants: California Independent System Operator Corporation.

Description: Compliance filing: 2021-07-23 Compliance Filing—NAESB to be effective 10/27/2021.

Filed Date: 7/23/21.

Accession Number: 20210723-5145.

Comments Due: 5 p.m. ET 8/13/21.

Docket Numbers: ER21-2497-000.

Applicants: El Paso Electric Company.

Description: § 205(d) Rate Filing: Service Agreement No. 360, LGIA with Solar PV Development NM 29 II to be effective 9/22/2021.

Filed Date: 7/23/21.

Accession Number: 20210723-5172.

Comments Due: 5 p.m. ET 8/13/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 23, 2021.
Debbie-Anne A. Reese,
Deputy Secretary.

[FR Doc. 2021-16166 Filed 7-28-21; 8:45 am]

BILLING CODE 6717-01-P